DEPARTMENT OF THE TREASURY

Office of Thrift Supervision

[AC-34: OTS Nos. 0890 and H4521]

OmniAmerican Bank, Fort Worth, TX; Approval of Conversion Application

Notice is hereby given that on November 12, 2009, the Office of Thrift Supervision approved the application of OmniAmerican Bank, Fort Worth, Texas, to convert to the stock form of organization. Copies of the application are available for inspection by appointment (phone number: (202) 906-5922 or e-mail: public.info@ots.treas.gov) at the Public Reading Room, 1700 G Street, NW., Washington, DC 20552, and the OTS Western Regional Office, 225 E. John Carpenter Freeway, Suite 500, Irving, Texas 75062-2326.

Dated: November 16, 2009.
By the Office of Thrift Supervision.
Sandra E. Evans,
Federal Register Liaison.

[FR Doc. E9-28024 Filed 11-20-09; 8:45 am]

BILLING CODE 6720-01-P